DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Privacy Act Administration, OMB Control Number 1910-1700. The proposed collection will aid DOE's processing of Privacy Act requests submitted by an individual or an authorized representative, wherein he or she requests records that the government may maintain pertaining to that individual. The DOE's use of the form continues to contribute to DOE's Privacy Act processes, including, but not limited to, providing for faster processing of Privacy Act information requests by asking individuals or their authorized representatives for pertinent information needed for records retrieval.

DATES: Comments regarding this collection must be received on or before June 9, 2021. If you anticipate that you will be submitting comments, but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ken Hunt, Chief Privacy Officer, U.S. Department of Energy, 19901 Germantown Road, Rm. G-302, Germantown, MD 20874 or by telephone at (301) 903-3880 or by facsimile at (301) 903-7738 or by email at privacyactoffice@hq.doe.gov.

SUPPLEMENTARY INFORMATION: This information collection request contains: (1) OMB No.: 1910-1700; (2) Information Collection Request Title: Privacy Act Administration; (3) Type of Request: Renewal; (4) Purpose: The Privacy Act Information Request form aids DOE's processing of Privacy Act requests submitted by an individual or an authorized representative, wherein he or she requests records that the government may maintain pertaining to that individual. The DOE's use of its form continues to contribute to DOE's Privacy Act processes, including, but not limited to, providing for faster processing of Privacy Act Information requests by asking individuals or their authorized representatives for pertinent information needed for records retrieval; (5) Annual Estimated Number of Respondents: 406; (6) Annual Estimated Number of Total Responses: 406; (7) Annual Estimated Number of Burden Hours: 135; (8) Annual Estimated Reporting and Recordkeeping Cost Burden: $7,973.

Statutory Authority: The Privacy Act of 1974, 5 U.S.C. 552(a); 10 CFR 1008.7; and DOE Order 206.1.

Signing Authority: This document of the Department of Energy was signed on April 7, 2021 by Emery Csulak, Acting Chief Information Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 5, 2021.
Treena V. Garrett,
Federal Register Liaison Officer, U.S. Department of Energy.

[FR Doc. 2021-09812 Filed 5-7-21; 8:45 am]

BILLING CODE 6450-01-P